DEPARTMENT OF LABOR

Office of the Secretary

Submission for OMB Review; Comment Request

June 24, 2004.

The Department of Labor (DOL) has submitted the following public information collection request (ICR) to the Office of Management and Budget (OMB) for review and approval in accordance with the Paperwork Reduction Act of 1995 (Pub. L. 104-13, 44 U.S.C. Chapter 35). A copy of each ICR, with applicable supporting documentation, may be obtained by contacting the Department of Labor (DOL). To obtain documentation, contact Ira Mills on 202-693-4122 (this is not a toll-free number) or e-mail: mills.ira@dol.gov.

Comments should be sent to Office of Information and Regulatory Affairs, Attn: OMB Desk Officer for DOL, Office of Management and Budget, Room 10235, Washington, DC 20503 202-395-7316 (this is not a toll-free number), within 30 days from the date of this publication in the Federal Register.

The OMB is particularly interested in comments which:

• Evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submission of responses.

Agency: Employment and Training Administration.

Type of Review: Extension of a currently approved collection.

Title: Workforce Investment Act Cumulative Quarterly Financial Reporting for Funds Allotted to States for: (1) Services to Youth, (2) Services to Adults, (3) Services to Dislocated Workers, (4) Local Administration, (5) Statewide Activities (15% of total Federal Allotment), and (6) Statewide Rapid Response.

OMB Number: 1205-0408.

Frequency: Quarterly.

Affected Public: Business or other for-profit; State, Local, or Tribal government.

Number of Respondents: 56.

Number of Annual Responses: 672.

Burden Summary Below:

Requirements | PY 2001 | PY 2002 | PY 2003
Number of Reports Per Entity Per Quarter | 3 | 3 | 3
Total Number of Reports Per Entity Per Year | 12 | 12 | 12
Number of Hours Required Per Report | 1 | 1 | 1
Total Number of Hours Required for Reporting Per Entity Per Year | 12 | 12 | 12
Number of Entities Reporting | 56 | 56 | 56
Total Number of Hours Required for Reporting Burden Per Year | 672 | 672 | 672
Note: Number of reports required per entity per quarter/per year is impacted by the 3-year life of each year of appropriated funds.

Total Burden Hours: 672.

Estimated Time Per Response: 1 Hour.

Burden Hours Total: 672.

Total annualized capital/startup costs: $0.

Total annual costs (operating/maintaining systems or purchasing services): $0.

Description: A continuance of the currently approved WIA financial reporting instructions is requested pursuant to Public Law 105-220, dated August 7, 1998 and Interim Final Rule (IFR), 20 CFR part 652, et al., dated August 11, 2000. Section 185(e) and (f) require that States report quarterly all program and activity costs by cost category and by year of appropriation, any income or profits earned, and any cost incurred such as stand-in costs that are otherwise allowable except for funding limitations. Sec. 185(g) requires that costs only be categorized as administrative or programmatic costs. The Regulations at 20 CFR 667.300 require that DOL issue financial reporting instructions to the States. To comply with the financial reporting requirements in the statute and the regulations, a continuance of the currently approved collection is requested as it is the Department's only means of obtaining the required data. States are currently reporting all required data electronically and will continue to do so under the continuance.

Ira L. Mills,
Departmental Clearance Officer.

[FR Doc. 04-14783 Filed 6-29-04; 8:45 am]

BILLING CODE 4510-30-P